CORPORATION FOR NATIONAL AND COMMUNITY SERVICE

Sunshine Act Meeting

The White House Council for Community Solutions gives notice of the following meeting:

DATE AND TIME: Friday, July 15, 2011, 3 p.m.-4 p.m. Eastern Daylight Time.

PLACE: The Council will meet via phone conference call. The meeting will be open to the public in Listen-Only mode and it will be recorded. To dial in, please call 1-866-525-0652. More details and materials will be available on the Council's Web site (http://www.serve.gov/communitysolutions) on Thursday, July 14th.

PUBLIC COMMENT: The public is invited to submit publicly available comments through the Council's Web site. To send statements to the Council, please send written statements to the Council's electronic mailbox at WhiteHouseCouncil@cns.gov. The public can also follow the Council's work by visiting its Web site: http://www.serve.gov/communitysolutions.

STATUS: Open.

MATTERS TO BE CONSIDERED: The purpose of this meeting is to review the Council's recommended next steps. The recommendations are the result of what the Council has learned through its outreach and other efforts about issues facing young Americans who are neither in school nor in the workplace and promising solutions to address this challenge. These recommendations will guide the work of the Council going forward.

CONTACT PERSON FOR MORE INFORMATION: Leslie Boissiere, Executive Director, White House Council for Community Solutions, Corporation for National and Community Service, 10th Floor, Room 10911, 1201 New York Avenue, NW., Washington, DC 20525. Phone: (202) 606-3910. Fax: (202) 606-3464. E-mail: lboissiere@cns.gov.

Dated: June 28, 2011.
Leslie Boissiere,
Executive Director, White House Council for Community Solutions.

[FR Doc. 2011-16658 Filed 6-28-11; 4:15 pm]

BILLING CODE 6050-$$-P